DEPARTMENT OF ENERGY

Federal Energy Regulatory Commission

[Docket No. ER00-1997-000]

PPL Electric Utilities Corporation; Notice to Convene Meeting and Setting Date for Convening Session

October 5, 2000

The Commission's Dispute Resolution Service will conduct a convening session on October 11, 2000, commencing at 10 a.m., in Room 3M-1 at the Federal Energy Regulatory Commission, 888 First Street, NE., Washington, DC. Following informal conversations between the Dispute Resolution Service and Allegheny Electric Cooperative, Inc. and PPL Electric Utilities Corporation, the parties agreed to an Alternative Dispute Resolution (ADR) process to resolve their disputes in the above-captioned dockets. The convening session will be held to finalize the ADR process. The Dispute Resolution Service will also assist the parties in better identifying and clarifying the issues in the above-captioned dockets for the follow-up ADR session. If a party has any questions, please call Deborah Osborne at (202) 208-0831.

Linwood A. Watson, Jr.,
Acting Secretary.

[FR Doc. 00-26178 Filed 10-11-00; 8:45 am]

BILLING CODE 6717-01-M